DEPARTMENT OF COMMERCE

Minority Business Development Agency

National Advisory Council for Minority Business Enterprise; Meeting

AGENCY: Minority Business Development Agency (MBDA), Department of Commerce.

ACTION: Notice of an open meeting.

SUMMARY: The National Advisory Council for Minority Business Enterprise (NACMBE) will hold its inaugural meeting to provide an orientation of new committee members, discuss administrative procedures and future work products to fulfill the NACMBE's charter mandate.

DATES: The meeting will be held on Wednesday, February 2, 2011, from 10 a.m. to 5 p.m. Eastern Standard Time (EST).

ADDRESSES: This meeting will be held at the U.S. Department of Commerce, 1401 Constitution Avenue, NW., Washington, DC 20230.

FOR FURTHER INFORMATION CONTACT: Bria Bailey, Office of Legislative, Education and Intergovernmental Affairs, Minority Business Development Agency, U.S. Department of Commerce at (202) 482-2943; e-mail: bbailey@mbda.gov.

SUPPLEMENTARY INFORMATION: Background: The Secretary of Commerce established the NACMBE pursuant to his discretionary authority and in accordance with the Federal Advisory Committee Act, as amended (5 U.S.C. App. 2) on April 28, 2010. The NACMBE is to provide the Secretary of Commerce with consensus advice from the private sector on a broad range of policy issues that affect minority businesses and their ability to successfully access the domestic and global marketplace.

Topics to be considered: The agenda for the February 2, 2011, NACMBE meeting is as follows:

1. Welcome and introduction of council members.

2. Council orientation and Ethics Briefing.

3. Discussion of NACMBE priorities.

4. Establish working groups.

5. Public comment period.

Public Participation: The meeting is open to the public from 1 p.m.-5 p.m. Public seating is limited and available on a first-come, first-served basis. Members of the public wishing to attend the meeting must notify Bria Bailey at the contact information above by 5 p.m. EST on Thursday, January 27, 2011, in order to preregister for clearance into the building. Please specify any requests for reasonable accommodation at least five (5) business days in advance of the meeting. Last minute requests will be accepted, but may be impossible to fill. A limited amount of time, from 4:15 p.m.-4:45 p.m. will be available for pertinent brief oral comments from members of the public attending the meeting. Any member of the public may submit pertinent written comments concerning the NACMBE's affairs at any time before or after the meeting. Comments may be submitted to the National Advisory Council on Minority Business Enterprises Office of Legislative, Education and Intergovernmental Affairs, Minority Business Development Agency, Room 5065, 1401 Constitution Avenue, NW., Washington, DC 20230. To be considered during the meeting, comments must be received no later than 5 p.m. EST on Thursday, January 27, 2011, to ensure transmission to the Council prior to the meeting. Comments received after that date will be distributed to the members but may not be considered at the meeting.

This meeting is physically accessible to people with disabilities. Requests for sign language interpretation or other auxiliary aids should be directed to Bria Bailey, at (202) 482-2943, or bbailey@ mbda.gov, at least five (5) days before the meeting date.

Copies of the NACMBE open meeting minutes will be available to the public upon request.

Dated: January 11, 2011.
David A. Hinson,
National Director, Minority Business Development Agency.

[FR Doc. 2011-757 Filed 1-13-11; 8:45 am]

BILLING CODE P